DEPARTMENT OF COMMERCE

National Oceanic and Atmospheric Administration

[RTID 0648-XE519]

Magnuson-Stevens Act Provisions; Fisheries Off West Coast States; Pacific Highly Migratory Species; Opening of Tier 9 Application Period

AGENCY: National Marine Fisheries Service (NMFS), National Oceanic and Atmospheric Administration (NOAA), Commerce.

ACTION: Notice; permit application period opening.

SUMMARY: NMFS announces the opening of the permit application period for initial issuance of limited entry deep-set buoy gear permits under qualification tier 9. Authorized through implementation of Amendment 6 to the Fishery Management Plan (FMP) for U.S. West Coast Fisheries for Highly Migratory Species (HMS) and its implementing regulations, tier 9 was established as the final tier in a ranking system for issuance of limited entry deep-set buoy gear permits. Tier 9 permits for deep-set buoy gear will be available through the National Permits System.

DATES: The application period for initial issuance of deep-set buoy gear permits issued under tier 9 is February 1 through March 31, 2025.

ADDRESSES: This notice is accessible via the internet at the Office of the Federal Register website at https://www.federalregister.gov. Background information on Amendment 6 to the HMS FMP and supporting documents are available at the NOAA Fisheries West Coast Region website at https://www.fisheries.noaa.gov/region/west-coast.

FOR FURTHER INFORMATION CONTACT: Karen Palmigiano, karen.palmigiano@noaa.gov or 206-526-4491.

SUPPLEMENTARY INFORMATION:

Background

The FMP for U.S. West Coast Fisheries for HMS and its implementing regulations at title 50 in the Code of Federal Regulations, part 660, subpart K, regulate commercial and recreational fishing for HMS in the U.S. exclusive economic zone off the coasts of Washington, Oregon, and California and in adjacent high seas waters. NMFS published Amendment 6 and its implementing regulations on May 8, 2023 (88 FR 29545). Amendment 6 authorizes deep-set buoy gear (DSBG) as an additional gear type for catching swordfish and other HMS in Federal waters off of California and Oregon. The Pacific Fishery Management Council recommended that NOAA Fisheries authorize DSBG as an additional commercial gear type to improve the economic viability of the West Coast-based swordfish fishery while minimizing bycatch to the extent practicable. The regulations also established a limited entry (LE) regime for “phased-in” permitting of DSBG fishing within Federal waters of the Southern California Bight (see 50 CFR 660.707(g)). Tier 9 is the final phase of that LE permit regime.

Tier 9 Permits

As required by the regulations at § 660.707(g)(12), once the list of initial approved qualifiers for tiers 1 through 8 is exhausted, NMFS may begin accepting applications under tier 9. Additionally, as required by regulations, NMFS must announce the opening of tier 9 in the Federal Register. This notice serves as that announcement.

Therefore, beginning on February 1, 2025, and ending on March 31, 2025, NMFS will accept applications for initial issuance of LE DSBG permits under tier 9. NMFS will continue to accept applications for tier 9 permits on an annual basis and issue up to 25 permits per year until a total of 300 LE DSBG permits are issued, unless NMFS determines that the maximum number of permits should be fewer than 300 and publishes a subsequent rulemaking. The process for initial issuance of LE DSBG permits to applicant that qualify under tier 9, which can be found at § 660.707(g)(12), is summarized below.

To qualify for a LE DSBG permit under tier 9, an applicant must be a “person” as defined at § 660.702 and must not already own a LE DSBG permit either individually or as a shareholder in a business which owns a LE DSBG permit.

To apply for a LE DSBG permit under tier 9 in 2025, a person must submit a complete application to NMFS through the National Permits System website no later than 11:59 p.m. Pacific daylight time on March 31, 2025. A complete initial issuance application package consists of the following: a completed initial issuance application form, which may include ownership interest for businesses, and as required under § 660.707(g)(3)(ii); a current copy of the U.S. Coast Guard Documentation Form or State registration form for the vessel that will be registered to the permit; and payment of required fees. NMFS may require additional documentation as it deems necessary to make a determination on the application. The initial issuance application package will be considered incomplete until the required information is submitted. NMFS will decline to act on an incomplete application.

NMFS will issue LE DSBG permits to approved applicants under tier 9 on a first come, first served basis, according to the date and time that their application was submitted through the National Permits System. NMFS will issue up to 25 permits each year. If NMFS approves more than 25 applications in a single year, the approved applicants above 25 (who were not issued a permit) will receive priority for permit issuance the following year, according to the date and time that their complete applications were received.

Authority: 16 U.S.C. 1801 et seq.

Dated: December 17, 2024.
Kelly Denit,
Director, Office of Sustainable Fisheries, National Marine Fisheries Service.

[FR Doc. 2024-30443 Filed 1-6-25; 8:45 am]

BILLING CODE 3510-22-P